DEPARTMENT OF ENERGY

Federal Energy Regulatory Commission

Combined Notice of Filings #1

Take notice that the Commission received the following electric rate filings:

Docket Numbers: ER13-449-001.

Applicants: California Independent System Operator Corporation.

Description: 2013-02-13 Circular Scheduling Compliance to be effective 2/1/2013.

Filed Date: 2/13/13.

Accession Number: 20130213-5090.

Comments Due: 5 p.m. e.t. 3/6/13.

Docket Numbers: ER13-790-001.

Applicants: Nevada Power Company.

Description: Rates Schedule No. 111 Second Amended & Restated PPA ORNI 42 to be effective 1/24/2013.

Filed Date: 2/12/13.

Accession Number: 20130212-5170.

Comments Due: 5 p.m. e.t. 3/5/13.

Docket Numbers: ER13-928-000.

Applicants: Midwest Independent Transmission System Operator, Inc.

Description: 2013-02-12 SSR as a Resource Filing to be effective 3/20/2013.

Filed Date: 2/12/13.

Accession Number: 20130212-5167.

Comments Due: 5 p.m. e.t. 3/5/13.

Docket Numbers: ER13-929-000.

Applicants: Nevada Power Company.

Description: Rate Schedule Nos. 76 & 77 Concurrence in SCE—Eldorado to be effective 1/1/2013.

Filed Date: 2/12/13.

Accession Number: 20130212-5171.

Comments Due: 5 p.m. e.t. 3/5/13.

Docket Numbers: ER13-930-000.

Applicants: Midwest Independent Transmission System Operator, Inc.

Description: 02-12-2013 SA1560 4th Amended G298 GIA to be effective 2/13/2013.

Filed Date: 2/12/13.

Accession Number: 20130212-5174.

Comments Due: 5 p.m. e.t. 3/5/13.

Docket Numbers: ER13-931-000.

Applicants: Avista Corporation.

Description: Cancel Unsigned Service Agreement T-1084 to be effective 12/31/9998.

Filed Date: 2/13/13.

Accession Number: 20130213-5001.

Comments Due: 5 p.m. e.t. 3/6/13.

Docket Numbers: ER13-932-000.

Applicants: Southern California Edison Company.

Description: Southern California Edison Company submits Notice of Cancellation for the Firm Transmission Service Agreement with the State of California Department of Water Resources.

Filed Date: 2/13/13.

Accession Number: 20130213-5061.

Comments Due: 5 p.m. e.t. 3/6/13.

Docket Numbers: ER13-933-000.

Applicants: American Electric Power Service Corporation.

Description: Petition by American Electric Power Service Corporation, on behalf of certain affiliates, for Limited Waiver of certain PJM Interconnection, L.L.C. Open Access Transmission Tariff provisions of Attachment DD.

Filed Date: 2/12/13.

Accession Number: 20130212-5243.

Comments Due: 5 p.m. e.t. 3/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 13, 2013.
Nathaniel J. Davis, Sr.,
Deputy Secretary.

[FR Doc. 2013-04077 Filed 2-21-13; 8:45 am]

BILLING CODE 6717-01-P